DEPARTMENT OF THE INTERIOR

National Park Service

National Register of Historic Places; Notification of Pending Nominations

Nominations for the following properties being considered for listing in the National Register were received by the National Park Service before January 24, 2004. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, (202) 371-6447. Written or faxed comments should be submitted by February 26, 2004.

Carol D. Shull,
Keeper of the National Register of Historic Places.

ALABAMA

Baldwin County

Fairhope Downtown Historic District, Roughly bounded by Equality St., Fairhope Ave., Morphy Ave., School St., Summit St., Fairhope, 04000115

DISTRICT OF COLUMBIA

District of Columbia

Grant Road Historic District, 4400 and 4500 blks of Grant Rd., NW., Washington, 04000116

Plymouth Theater, 1365 H St., NE., Washington, 04000117

Surratt, Mary E., House, 604 H St., NW., Washington, 04000118

LOUISIANA

Orleans Parish

Xavier University Main Building, Convent and Library, 1 Drexel Dr., New Orleans, 04000114

MASSACHUSETTS

Hampshire County

North Cemetery, Cold St., Worthington, 04000121

Middlesex County

Asland Town House, 101 Main St., Ashland, 04000120

Suffolk County

YWCA Boston, 140 Clarendon St., Boston, 04000119

OHIO

Butler County

High Street Commercial Block, 228, 232, 236 High St., Hamilton, 04000113

OKLAHOMA

Beckham County

Sayre Champlin Service Station, (Route 66 and Associated Resources in Oklahoma AD MPS) 126 West Main, Sayre, 04000130

Sayre City Park, 200 yds S of jct. of E1200 Rd. and N1870 Rd., Sayre, 04000127

Canadian County

Avant's Cities Service Station, (Route 66 and Associated Resources in Oklahoma AD MPS) 220 S. Choctaw, El Reno, 04000131

Bridgeport Hill—Hydro OK 66 Segment, (Route 66 and Associated Resources in Oklahoma AD MPS) OK 66 from Hydro E to Spur U.S. 281, Hydro, 04000129

Jackson Conoco Service Station, (Route 66 and Associated Resources in Oklahoma AD MPS) 301 S. Choctaw, (121 W. Wade), El Reno, 04000132

Creek County

West Sapulpa Route 66 Roadbed, Jct. of Ozark Trail of OK 66, 0.25 W of Sahoma Lake Rd., Sapulpa, 04000128

Lincoln County

Captain Creek Bridge, (Route 66 and Associated Resources in Oklahoma AD MPS) W of jct. of Hickory St. and OK 66B, Wellston, 04000134

Muskogee County

St. Thomas Primitive Baptist Church, 5th St., N of jct. with Chimney Mountain Rd., Summit, 04000123

Oklahoma County

Gatewood East Historic District, NW 16th to N of NW 22nd, N. Classen Blvd. to N. Blackwelder Ave. and N. Florida Ave., Oklahoma City, 04000126

Gatewood West Historic District, NW 16th to NW 23rd, N Blackwelder Ave. and N. Florida Ave. to Pennsylvania Ave., Oklahoma City, 04000125

Lake Overholser Bridge, (Route 66 in Oklahoma MPS) N. Overholser Dr., 0.5 mi. W of N. Council Rd., Oklahoma City, 04000133

Lincoln Terrace East Historic District, Roughly bounded by Kelley Ave, NE 16th St., Philips Ave., NE 14th St., Linday Ave., Culbertston Dr., and NE 21st St., Oklahoma City, 04000124

Ottawa County

Ottawa County Courthouse, (County Courthouses of Oklahoma TR) 102 East Central, Miami, 04000122

Tulsa County

Vickery Phillips 66 Station, (Route 66 in Oklahoma MPS) 602 S. Elgin, Tulsa, 04000135

A request for REMOVAL has been made for the following resource:

SOUTH DAKOTA

Custer County

Archeological Site No. 39CU890 (Prehistoric Rock Art of South Dakota MPS) Address Restricted Hermosa vicinity, 93000803

[FR Doc. 04-2904 Filed 2-10-04; 8:45 am]

BILLING CODE 4312-51-U